DEPARTMENT OF LABOR

Office of the Secretary

Submission for OMB Review: Comment Request

February 5, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: John Kraemer, OMB Desk Officer for the Occupational Safety and Health Administration (OSHA), Office of Management and Budget, Room 10235, Washington, DC 20503, Telephone: 202-395-7316/Fax: 202-395-6974 (these are not a toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: Fire Brigades (29 CFR 1910.156).

OMB Control Number: 1218-0075.

Agency Form Number: None.

Affected Public: Private Sector: Business or other for-profits and Not-for-profits institutions.

Estimated Number of Respondents: 7,010.

Estimated Total Annual Burden Hours: 5,048.

Estimated Total Annual Costs Burden: $0.

Description: OSHA does not mandate that employers establish fire brigades; however, if they do so, they must comply with certain provisions of the Standard for Fire Brigades. See 29 CFR 1910.156. The Standard imposes the following paperwork requirements on each employer who establishes a fire brigade: Write an organizational statement; ascertain the fitness of employees with specific medical conditions to participate in fire related operations; and provide appropriate training and information to fire brigade members. For additional information, see related notice published on November 21, 2007 at 72 FR 65608.

Darrin A. King,
Acting Departmental Clearance Officer.

[FR Doc. E8-2445 Filed 2-8-08; 8:45 am]

BILLING CODE 4510-26-P